DEPARTMENT OF COMMERCE

National Oceanic and Atmospheric Administration

50 CFR Part 635

I.D. 092403C

Atlantic Highly Migratory Species Fisheries; Bluefin Tuna Retention Limit

AGENCY: National Marine Fisheries Service (NMFS), National Oceanic and Atmospheric Administration (NOAA), Commerce.

ACTION: Atlantic bluefin tuna retention limit adjustment.

SUMMARY: This action adjusts the Atlantic bluefin tuna (BFT) General category daily retention limit to allow for maximum utilization of the proposed coastwide General category quota. NMFS increases the daily retention limit to three large medium or giant BFT. This action is being taken to provide increased fishing opportunities in all areas without risking overharvest of the General category quota.

DATES: Effective September 27, 2003, through October 31, 2003.

FOR FURTHER INFORMATION CONTACT: Brad McHale at 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas (ICCAT) among the various domestic fishing categories, and General category effort controls (including time-period subquotas and restricted fishing days (RFDs)) are specified annually under 50 CFR 635.23(a) and 635.27(a). The 2003 BFT Quota Specifications and General category effort controls were proposed on July 10, 2003 (68 FR 41103).

Adjustment of Daily Retention Limit

Under § 635.23 (a)(4), NMFS may increase or decrease the General category daily retention limit of large medium and giant BFT over a range from zero (on RFDs) to a maximum of three per vessel to allow for maximum utilization of the quota for BFT. Based on a review of dealer reports, daily landing trends, available quota, and the availability of BFT on the fishing grounds, NMFS has determined that an increase of the daily retention limit for the month of October is appropriate and necessary to maximize use of the proposed coastwide General Category quota. Based on this seasons landings rates in June through September, it is highly unlikely that the proposed September subquota will be filled in the remaining fishing days. At current catch rates and a daily retention limit of two BFT per vessel, it is also unlikely that the proposed October through December subquota, will be attained in the October through December time-period. An adjustment to the General category daily retention limit will allow full use of the General category quota proposed for the 2003 fishing year, while preventing overharvest and ensuring reasonable fishing opportunities in all areas. Therefore, NMFS adjusts the General category daily retention limit to three large medium or giant BFT per vessel, effective September 27 through October 31, 2003.

The intent of this adjustment is to allow for maximum utilization by General category participants of the remaining General category quota (specified under 50 CFR 635.27(a)), (which has been adjusted by the quota carryover from the June through August and September time-period subquotas), to help achieve optimum yield in the General category fishery, to collect a broad range of data for stock monitoring purposes, and to be consistent with the objectives of the HMS FMP.

Closures or subsequent adjustments to the daily retention limit, if any, will be published in the Federal Register. In addition, owners/operators may call the Atlantic Tunas Information Line at (888) 872-8862 or (978) 281-9305 for updates on quota monitoring and retention limit adjustments.

Classification

The Assistant Administrator for Fisheries, NOAA (AA), finds that it is impracticable and contrary to the public interest to provide prior notice of, and an opportunity for public comment on, this action. Catch rates for the 2003 BFT season have been extremely low and at the current rate of landings it is highly unlikely that the proposed quota will be harvested. Delay in increasing the retention limits would further exacerbate this problem. Large amounts of unharvested quota will have negative social and economic impacts to U.S. fishermen who depend upon catching the available quota within the time periods designated in the HMS FMP. Therefore, the AA finds good cause under 5 U.S.C. 553(b)(B) to waive prior notice and the opportunity for public comment. For all of the above reasons, and because this action relieves a restriction (i.e., allows the retention of more fish), there is also good cause under 5 U.S.C. 553(d) to waive the delay in effectiveness of this action.This action is being taken under 50 CFR 635.23(a)(4) and is exempt from review under Executive Order 12866.

Authority: 16 U.S.C. 971 et seq. and 1801 et seq.

Dated: September 24, 2003.
Bruce C. Morehead,
Acting Director, Office of Substainable Fisheries, National Marine Fisheries Service.

[FR Doc. 03-24620 Filed 9-24-03; 3:49 pm]

BILLING CODE 3510-22-S